NUCLEAR REGULATORY COMMISSION

[Docket Nos. 50-352 and 50-353]

Peco Energy Company, Limerick Generating Station, Unit 1 and 2; Environmental Assessment and Finding of No Significant Impact

The U.S. Nuclear Regulatory Commission (the Commission) is considering issuance of an amendment to Facility Operating License No. NPF-39 and NPF-85, issued to PECO Energy Company (the licensee), for operation of the Limerick Generating Station (LGS), Units 1 and 2, located in Montgomery County, Pennsylvania.

Environmental Assessment

Identification of the Proposed Action

The proposed action would clarify several administrative requirements, delete redundant administrative requirements, and correct typographical errors in the LGS, Units 1 and 2, Technical Specifications (TSs) in accordance with the licensee's application for amendment dated September 27, 1999.

The Need for the Proposed Action

The proposed action would provide clarity and administrative correctness to the TSs.

Environmental Impacts of the Proposed Action

The NRC has completed its evaluation of the proposed action and concludes that the changes to the TSs are administrative in nature.

The proposed action will not significantly increase the probability or consequence of accidents, no changes are being made in the types of any effluents that may be released off site, and there is no significant increase in occupational or public radiation exposure. Therefore, there is no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Limerick Generating Station, Units 1 and 2.

Agencies and Persons Consulted

In accordance with its state policy, on October 8, 1999, the staff consulted with the Pennsylvania State official, Mr. David Ney of the Pennsylvania Department of Environmental Protection, regarding the environmental impact of the proposed action. The state official had no comment.

Finding of No Significant Impact

On the basis of the environmental assessment, the NRC concludes that the proposed action will not have a significant effect on the quality of the human environment. Accordingly, the NRC has determined not to prepare an environmental impact statement for the proposed action.

For further details with respect to the proposed action, see the licensee's letter dated September 27, 1999, which is available for public inspection at the Commission's Public Document Room, The Gelman Building, 2120 L Street, NW., Washington, DC. Publically available records will be accessible electronically from the ADAMS Public Library component on the NRC Web site, http://www.nrc.gov (the electronic reading room).

Dated at Rockville, Maryland, this 28th day of February, 2000.
For Nuclear Regulatory Commission.
Bartholomew C. Buckley,
Sr. Project Manager, Section 2, Project Directorate I, Division of Licensing Project Management, Office of Nuclear Reactor Regulation.

[FR Doc. 00-5157 Filed 3-2-00; 8:45 am]

BILLING CODE 7590-01-P